DEPARTMENT OF HOMELAND SECURITY

Federal Emergency Management Agency

44 CFR Part 64

[Docket ID FEMA-2014-0002; Internal Agency Docket No. FEMA-8343]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR Part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region IV
Alabama:
Ashford, City of, Houston County | 010099 | July 15,1975, Emerg; September 4, 1985, Reg; September 3, 2014, Susp | Sept. 3, 2014 | Sept. 3, 2014.
Autauga County, Unincorporated Areas | 010314 | December 16, 1975, Emerg; December 18, 1985, Reg; September 3, 2014, Susp | ......*do | do.
Autaugaville, Town of, Autauga County | 010001 | February 3, 1986, Emerg; February 3, 1986, Reg; September 3, 2014, Susp | ......do | do.
Avon, Town of, Houston County | 010100 | December 30, 1975, Emerg; September 1, 1986, Reg; September 3, 2014, Susp | ......do | do.
Benton, Town of, Lowndes County | 015002 | February 25, 1972, Emerg; April 6, 1973, Reg; September 3, 2014, Susp | ......do | do.
Columbia, Town of, Houston County | 010101 | December 9, 1977, Emerg; September 4, 1985, Reg; September 3, 2014, Susp | ......do | do.
Coosada, Town of, Elmore County | 015012 | September 17, 1986, Emerg; September 17, 1986, Reg; September 3, 2014, Susp | ......do | do.
Cottonwood, Town of, Houston County | 010102 | December 24, 1975, Emerg; April 5, 1988, Reg; September 3, 2014, Susp | ......do | do.
Cowarts, Town of, Houston County | 010103 | October 29, 1998, Emerg; December 16, 2005, Reg; September 3, 2014, Susp | ......do | do.
Dallas County, Unincorporated Areas | 010063 | April 11, 1975, Emerg; September 29, 1986, Reg; September 3, 2014, Susp | ......do | do.
Dothan, City of, Dale and Houston Counties | 010104 | February 21, 1975, Emerg; January 15, 1988, Reg; September 3, 2014, Susp | ......do | do.
Elmore, Town of, Elmore County | 010490 | N/A, Emerg; January 12, 2012, Reg; September 3, 2014, Susp | ......do | do.
Elmore County, Unincorporated Areas | 010406 | January 16, 1980, Emerg; February 19, 1986, Reg; September 3, 2014, Susp | ......do | do.
Gordon, Town of, Houston County | 010105 | January 19, 1976, Emerg; April 2, 1986, Reg; September 3, 2014, Susp | ......do | do.
Houston County, Unincorporated Areas | 010098 | June 25, 1975, Emerg; September 29, 1989, Reg; September 3, 2014, Susp | ......do | do.
Kinsey, Town of, Houston County | 010106 | September 3, 1975, Emerg; September 29, 1986, Reg; September 3, 2014, Susp | ......do | do.
Lowndes County, Unincorporated Areas | 010272 | December 11, 1975, Emerg; August 15, 1984, Reg; September 3, 2014, Susp | ......do | do.
Madrid, Town of, Houston County | 010107 | November 6, 1975, Emerg; July 18, 1985, Reg; September 3, 2014, Susp | ......do | do.
Millbrook, City of, Autauga and Elmore Counties | 010370 | October 18, 1979, Emerg; August 15, 1984, Reg; September 3, 2014, Susp | ......do | do.
Prattville, City of, Autauga and Elmore Counties | 010002 | June 18, 1974, Emerg; August 15, 1978, Reg; September 3, 2014, Susp | ......do | do.
Rehobeth, Town of, Houston County | 010392 | N/A, Emerg; July 17, 2003, Reg; September 3, 2014, Susp | ......do | do.
Selma, City of, Dallas County | 010065 | May 7, 1974, Emerg; March 4, 1986, Reg; September 3, 2014, Susp | ......do | do.
Taylor, Town of, Houston County | 010108 | N/A, Emerg; April 15, 2004, Reg; September 3, 2014, Susp | ......do | do.
Valley Grande, City of, Dallas County | 010312 | N/A, Emerg; June 8, 2004, Reg; September 3, 2014, Susp | ......do | do.
Wetumpka, City of, Elmore County | 010070 | March 11, 1975, Emerg; January 3, 1986, Reg; September 3, 2014, Susp | ......do | do.
White Hall, Town of, Lowndes County | 010507 | N/A, Emerg; September 9, 2010, Reg; September 3, 2014, Susp | ......do | do.
Region V
Indiana:
Cass County, Unincorporated Areas | 180022 | June 12, 1975, Emerg; August 3, 1981, Reg; September 3, 2014, Susp | ......do | do.
Galveston, Town of, Cass County | 180356 | April 12, 1976, Emerg; November 8, 1978, Reg; September 3, 2014, Susp | ......do | do.
Logansport, City of, Cass County | 180023 | May 1, 1975, Emerg; July 16, 1981, Reg; September 3, 2014, Susp | ......do | do.
Walton, Town of, Cass County | 180024 | July 31, 1975, Emerg; November 8, 1978, Reg; September 3, 2014, Susp | ......do | do.
Wisconsin: Delavan, City of, Walworth County | 550463 | October 18, 1974, Emerg; September 1, 1983, Reg; September 3, 2014, Susp | ......do | do.
Fontana on Geneva Lake, Village of, Walworth County | 550592 | N/A, Emerg; March 23, 2006, Reg; September 3, 2014, Susp | ......do | do.
Walworth County, Unincorporated Areas | 550462 | June 10, 1975, Emerg; August 15, 1983, Reg; September 3, 2014, Susp | ......do | do.
Whitewater, City of, Jefferson and Walworth Counties | 550200 | March 27, 1975, Emerg; June 1, 1982, Reg; September 3, 2014, Susp | ......do | do.
Region VI
Texas:
Clarksville City, City of, Gregg and Upshur Counties | 480535 | N/A, Emerg; April 9, 2009, Reg; September 3, 2014, Susp | ......do | do.
Easton, City of, Gregg and Rusk Counties | 481145 | December 7, 1988, Emerg; December 1, 1989, Reg; September 3, 2014, Susp | ......do | do.
Gladewater, City of, Gregg and Upshur Counties | 480262 | November 1, 1974, Emerg; January 16, 1981, Reg; September 3, 2014, Susp | ......do | do.
Gregg County, Unincorporated Areas | 480261 | March 3, 1981, Emerg; January 3, 1990, Reg; September 3, 2014, Susp | ......do | do.
Harrison County, Unincorporated Areas | 480847 | March 18, 1988, Emerg; November 1, 1989, Reg; September 3, 2014, Susp | ......do | do.
Longview, City of, Gregg and Harrison Counties | 480264 | December 6, 1973, Emerg; December 15, 1977, Reg; September 3, 2014, Susp | ......do | do.
Marshall, City of, Harrison County | 480319 | July 17, 1974, Emerg; September 16, 1981, Reg; September 3, 2014, Susp | ......do | do.
Uncertain, City of, Harrison County | 481559 | August 21, 1979, Emerg; August 21, 1979, Reg; September 3, 2014, Susp | ......do | do.
Warren City, City of, Gregg and Upshur Counties | 480840 | April 13, 1981, Emerg; July 3, 1985, Reg; September 3, 2014, Susp | ......do | do.
White Oak, City of, Gregg County | 480841 | July 7, 1989, Emerg; December 1, 1989, Reg; September 3, 2014, Susp | ......do | do.
Region VII
Kansas: Atchison, City of, Atchison County | 200010 | February 7, 1975, Emerg; June 1, 1978, Reg; September 3, 2014, Susp | ......do | do.
*......do = Ditto.
Code for reading third column: Emerg.—Emergency; Reg.—Regular; Susp.—Suspension.

Dated: July 24, 2014.
David L. Miller,
Associate Administrator, Federal Insurance and Mitigation Administration, Department of Homeland Security, Federal Emergency Management Agency.

[FR Doc. 2014-18637 Filed 8-6-14; 8:45 am]

BILLING CODE 9110-12-P